DEPARTMENT OF AGRICULTURE

Food Safety and Inspection Service

[Docket No. FSIS-2015-0025]

Codex Alimentarius Commission: Meeting of the Codex Committee on Food Hygiene

AGENCY: Office of the Under Secretary for Food Safety, USDA.

ACTION: Notice of public meeting and request for comments.

SUMMARY: The Office of the Under Secretary for Food Safety, U.S. Department of Agriculture (USDA), and the Food and Drug Administration (FDA), U.S. Department of Health and Human Services (HHS), are sponsoring a public meeting on October 19, 2015. The objective of the public meeting is to provide information and receive public comments on agenda items and draft United States (U.S.) positions to be discussed at the 47th Session of the Codex Committee on Food Hygiene (CCFH) of the Codex Alimentarius Commission (Codex), taking place in Boston, Massachusetts November 9-13, 2015. The Deputy Under Secretary for Food Safety and the FDA recognize the importance of providing interested parties the opportunity to obtain background information on the 47th Session of CCFH and to address items on the agenda.

DATES: The public meeting is scheduled for Monday, October 19, 2015 from 1:00-4:00 p.m.

ADDRESSES: The public meeting will take place at the Jamie L. Whitten Building, United States Department of Agriculture, 1400 Independence Avenue SW., Room 107-A, Washington, DC 20250.

Documents related to the 47th Session of the CCFH will be accessible via the Internet at the following address: http://www.codexalimentarius.org/meetings-reports/en/.

Jenny Scott, U.S. Delegate to the CCFH, invites U.S. interested parties to submit their comments electronically to the following email address Jenny.Scott@fda.hhs.gov.

Call-In Number

If you wish to participate in the public meeting for the 47th Session of the CCFH by conference call, please use the call-in number listed below.

Call-in Number: 1-888-844-9904

Participant code will be listed on the following link closer to the meeting date. http://www.fsis.usda.gov/wps/portal/fsis/topics/international-affairs/us-codex-alimentarius/public-meetings.

Registration

Attendees may register to attend the public meeting by emailing barbara.mcniff@fsis.usda.gov by August 4, 2015. Early registration is encouraged because it will expedite entry into the building. On the day of the meeting attendees should also bring photo identification and plan for adequate time to pass through security screening systems. Attendees who are not able to attend the meeting in person, but who wish to participate, may do so by phone.

For Further Information About The 47th Session of CCFH Contact: Jenny Scott, Senior Advisor, Office of Food Safety, Center for Food Safety and Applied Nutrition, U.S. Food and Drug Administration, 5100 Paint Branch Parkway, HFS-300, Room 3B-014, College Park, MD 20740-3835, Telephone: (240) 402-2166, Fax: (202) 436-2632, Email: Jenny.Scott@fda.hhs.gov.

For Further Information About The Public Meeting Contact: Barbara McNiff, U.S. Codex Office, 1400 Independence Avenue SW., Room 4861, Washington, DC 20250, Telephone: (202) 690-4719, Fax: (202) 720-3157, Email: Barbara.McNiff@fsis.usda.gov.

SUPPLEMENTARY INFORMATION:

Background

Codex was established in 1963 by two United Nations organizations, the Food and Agriculture Organization (FAO) and the World Health Organization (WHO). Through adoption of food standards, codes of practice, and other guidelines developed by its committees, and by promoting their adoption and implementation by governments, Codex seeks to protect the health of consumers and ensure that fair practices are used in the food trade.

The Codex Committee on Food Hygiene is responsible for:

(a) Drafting basic provisions on food hygiene applicable to all food;

(b) Considering, amending if necessary, and endorsing provisions on hygiene prepared by Codex commodity committees and contained in Codex commodity standards;

(c) Considering, amending if necessary, and endorsing provisions on hygiene prepared by Codex commodity committees and contained in Codex codes of practice unless, in specific cases, the Commission has decided otherwise;

(d) Drafting provisions on hygiene applicable to specific food items or food groups, whether coming within the terms of reference of a Codex commodity committee or not;

(e) Considering specific hygiene problems assigned to it by the Commission;

(f) Suggesting and prioritizing topics on which there is a need for microbiological risk assessment at the international level and to develop questions to be addressed by the risk assessors; and

(g) Considering microbiological risk management matters in relation to food hygiene, including food irradiation, and in relation to the risk assessment of FAO and WHO.

The CCFH is hosted by the United States.

Issues To Be Discussed at the Public Meeting

The following items on the Agenda for the 47th Session of the CCFH will be discussed during the public meeting:

• Proposed Draft Guidelines for the Control of Nontyphoidal Salmonella spp. In Beef and Pork Meat.

• Proposed Draft Guidelines on the Application of General Principles of Food Hygiene to the Control of Foodborne Parasites.

• New work proposals/Forward Work plan.

• Discussion paper on the need to revise the Code of Hygienic Practice for Fresh Fruits and Vegetables

• Discussion paper on the revision of the General Principles of Food Hygiene and its HACCP annex

Each issue listed will be fully described in documents distributed, or to be distributed, by the Codex Secretariat prior to the Committee meeting. Members of the public may access or request copies of these documents (see ADDRESSES).

Public Meeting

At the October 19, 2015, public meeting, draft U.S. positions on the agenda items will be described and discussed, and attendees will have the opportunity to pose questions and offer comments. Written comments may be offered at the meeting or sent to the U.S. Delegate for the 47th Session of the CCFH, Jenny Scott (see ADDRESSES). Written comments should state that they relate to activities of the 47th Session of the CCFH.

Additional Public Notification

Public awareness of all segments of rulemaking and policy development is important. Consequently, FSIS will announce this Federal Register publication on-line through the FSIS Web page located at: http://www.fsis.usda.gov/federal-register .

FSIS also will make copies of this publication available through the FSIS Constituent Update, which is used to provide information regarding FSIS policies, procedures, regulations, Federal Register notices, FSIS public meetings, and other types of information that could affect or would be of interest to our constituents and stakeholders. The Update is available on the FSIS Web page. Through the Web page, FSIS is able to provide information to a much broader, more diverse audience. In addition, FSIS offers an email subscription service which provides automatic and customized access to selected food safety news and information. This service is available at: http://www.fsis.usda.gov/subscribe. Options range from recalls to export information, regulations, directives, and notices. Customers can add or delete subscriptions themselves, and have the option to password protect their accounts.

USDA Non-Discrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

How To File a Complaint of Discrimination

To file a complaint of discrimination, complete the USDA Program Discrimination Complaint Form, which may be accessed online at http://www.ocio.usda.gov/sites/default/files/docs/2012/Complain_combined_6_8_12.pdf, or write a letter signed by you or your authorized representative.

Send your completed complaint form or letter to USDA by mail, fax, or email:

Mail: U.S. Department of Agriculture, Director, Office of Adjudication, 1400 Independence Avenue SW., Washington, DC 20250-9410.

Fax: (202) 690-7442.

Email: program.intake@usda.gov.

Persons with disabilities who require alternative means for communication (Braille, large print, audiotape, etc.) should contact USDA's TARGET Center at (202) 720-2600 (voice and TDD).

Done at Washington, DC on August 19, 2015.
Mary Frances Lowe,
U.S. Manager for Codex Alimentarius.

[FR Doc. 2015-20917 Filed 8-24-15; 8:45 am]

BILLING CODE 3410-DM-P